NUCLEAR REGULATORY COMMISSION

Advisory Committee On Reactor Safeguards Meeting of The ACRS Subcommittee on Materials, Metallurgy & Reactor Fuels

Revision to December 15, 2011, ACRS Meeting Federal Register Notice

The Federal Register Notice for the ACRS Subcommittee Meeting on Materials, Metallurgy & Reactor Fuels scheduled to be held on December 15, 2011, is being revised to notify the following:

The meeting will be open to public attendance with exception of portions that may be closed to protect information that is proprietary, pursuant to 5 U.S.C. 552b(c)(4).

The notice of this meeting was previously published in the Federal Register on November 23, 2011 [76 FR 72451-72452]. All other items remain the same as previously published.

Further information regarding this meeting can be obtained by contacting Christopher Brown, Designated Federal Official (Telephone: (301) 415-7111, Email: Christopher.Brown@nrc.gov) between 7:30 a.m. and 5:15 p.m. (ET).

Dated: December 1, 2011.
Antonio F. Dias,
Technical Advisor, Advisory Committee on Reactor Safeguards.

[FR Doc. 2011-31362 Filed 12-6-11; 8:45 am]

BILLING CODE 7590-01-P